SMALL BUSINESS ADMINISTRATION

[Disaster Declaration #10316 and #10317]

Oklahoma Disaster Number OK-00002

AGENCY: U.S. Small Business Administration.

ACTION: Amendment 1.

SUMMARY: This is an amendment of the Presidential declaration of a major disaster for the State of Oklahoma (FEMA-1623-DR), dated January 10, 2006.

Incident: Severe Wildfire Threat.

Incident Period: November 27, 2005 and continuing.

Effective Date: January 23, 2006.

Physical Loan Application Deadline Date: March 13, 2006.

EIDL Loan Application Deadline Date: October 10, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Oklahoma, dated January 10, 2006, is hereby amended to establish the incident period for this disaster as beginning November 27, 2005 and continuing.

All other information in the original declaration remains unchanged.

(Catalog of Federal Domestic Assistance Numbers 59002 and 59008)

Herbert L. Mitchell,
Associate Administrator for Disaster Assistance.

[FR Doc. E6-1462 Filed 2-2-06; 8:45 am]

BILLING CODE 8025-01-P